DEPARTMENT OF DEFENSE

Department of the Army, Corps of Engineers

[Permit No. NAN-2022-00776]

Notice of Final Federal Agency Action on the Authorization for the Sunrise Wind Energy Project Offshore New York

AGENCY: Department of the Army, U.S. Army Corps of Engineers, DoD.

ACTION: Notice of limitation on claims for judicial review of actions by the U.S. Army Corps of Engineers (USACE).

SUMMARY: USACE announces final agency action on the USACE authorization for the proposed construction and maintenance of the Sunrise Wind project offshore of Massachusetts, Rhode Island, and New York. USACE has issued a permit authorizing the construction and maintenance of the Sunrise Wind project under section 10 of the Rivers and Harbors Act of 1899 (RHA), section 404 of the Clean Water Act (CWA), and section 14 of the Rivers and Harbors Act of 1899. The Sunrise Wind project is a “covered project” under title 41 of the Fixing America's Surface Transportation Act.

DATES: A claim seeking judicial review of the USACE authorization of construction and maintenance of the Sunrise Wind project will be barred unless the claim is filed not later than two years after this notice's publication date. If the Federal law that allows for judicial review of the USACE authorization specifies a shorter time period for filing such a claim, then that shorter time period will apply.

FOR FURTHER INFORMATION CONTACT: Mr. Christopher Minck, Regulatory Project Manager, Regulatory Branch, USACE, New York District, 26 Federal Plaza, New York, New York 10278, (917) 790-8511 or cenan.publicnotice@usace.army.mil.

SUPPLEMENTARY INFORMATION: Notice is hereby given that USACE has taken final agency action on its authorization for the proposed Sunrise Wind project by issuing a permit authorizing construction and maintenance of the project under section 10 of the RHA, section 404 of the CWA, and section 14 of the Rivers and Harbors Act of 1899. The majority of the authorized work will occur in the Atlantic Ocean within Bureau of Ocean Energy Management (BOEM) Renewable Energy Lease Area OCS-0487, which is approximately 18.9 miles south of Martha's Vineyard, Massachusetts, approximately 30.5 miles east of Montauk, New York, and approximately 16.7 miles from Block Island, Rhode Island.

The work authorized under the USACE permit includes the following: (1) installation of up to eighty-four (84) wind turbine generators (WTGs) and one (1) offshore converter substation (OCS-DC) with associated scour protection, (2) installation of approximately 180 nautical miles of inter-array cables connecting the WTGs and the OCS-DC with associated secondary cable protection, (3) installation of up to 2 export transmission cables with associated secondary cable protection within an approximately 104.6 mile long offshore export cable corridor extending from the lease area to the cable landfall location at the Smith Point County Park on Fire Island in Town of Brookhaven, Suffolk County, New York, (4) an approximately 17.5 mile onshore export cable route from Smith Point County Park to the Holbrook Substation in the Town of Brookhaven, NY including two submarine cable crossings, and (5) construction of a temporary fixed pier on the Intracoastal Waterway.

The USACE's decision to issue a permit for the Sunrise Wind project, and the laws under which the action was taken, are described in the Sunrise Wind Final Environmental Impact Statement (FEIS) published by BOEM on December 15, 2023, in the BOEM Record of Decision (ROD) issued on March 26, 2024, and in other project records including USACE's ROD dated May 20, 2024. The BOEM FEIS, ROD, and other documents can be viewed and downloaded from the BOEM project website at https://www.boem.gov/renewable-energy/state-activities/sunrise-wind. The USACE permit and ROD can be viewed and downloaded from the USACE website at https://www.nan.usace.army.mil/Missions/Regulatory/Commonly-Requested-Issued-Permits-and-Nationwide-Permit-Verifications/. By this notice, USACE is advising the public of final agency action subject to 42 U.S.C. 4370m-6(a)(1)(A).

Authority: 42 U.S.C. 4370m-6(a)(1)(A).

John P. Lloyd,
Brigadier General, USA, Commanding.

[FR Doc. 2024-14236 Filed 6-27-24; 8:45 am]

BILLING CODE 3720-58-P